DEPARTMENT OF DEFENSE

Department of the Army; Corps of Engineers

Coastal Engineering Research Board (CERB)

Correction

In notice document 06-2859 appearing on page 14858 in the issue of Friday, March 24, 2006, make the following correction:

In the second column, under the heading FOR FURTHER INFORMATION CONTACT, in the last line, “29180-6199.” should read “39180-6199.”.

[FR Doc. C6-2859 Filed 3-29-06; 8:45 am]

BILLING CODE 1505-01-D